DEPARTMENT OF THE TREASURY

United States Mint

Revised Pricing Grid for Gold and Platinum Products

AGENCY: United States Mint, Department of the Treasury.

ACTION: Notice.

SUMMARY: The United States Mint is announcing a revised pricing grid for 2013 gold and platinum products. Please see the grid following signature.

DATES: This grid will be effective Wednesday, February 27, 2013, at 12 noon (ET).

FOR FURTHER INFORMATION CONTACT: Marc Landry, Acting Associate Director for Sales and Marketing; United States Mint; 801 9th Street NW., Washington, DC 20220; or call 202-354-7500.

Authority: 31 U.S.C. 5111, 5112 & 9701; Pub. L. 111-262, sec. 6.

Dated: February 11, 2013.
Richard A. Peterson,
Acting Director, United States Mint.

BILLING CODE P

[FR Doc. 2013-03633 Filed 2-19-13; 8:45 am]

BILLING CODE C